ENVIRONMENTAL PROTECTION AGENCY

40 CFR Parts 52 and 81

[Docket # ID-02-001; FRL-7398-1]

Approval and Promulgation of Air Quality Implementation Plans; State of Idaho; Northern Ada County Carbon Monoxide Redesignation to Attainment and Designation of Areas for Air Quality Planning Purposes

AGENCY: Environmental Protection Agency (EPA).

ACTION: Direct final rule.

SUMMARY: On January 17, 2002, the State of Idaho requested EPA to redesignate the Northern Ada County “not classified” carbon monoxide (CO) nonattainment area to attainment for the CO National Ambient Air Quality Standard (NAAQS) and submitted a CO maintenance plan for Northern Ada County. In this action, EPA is approving the maintenance plan and redesignating the Northern Ada County CO nonattainment area to attainment.

DATES: This direct final rule will be effective December 27, 2002, unless EPA receives adverse comments by November 27, 2002. If relevant adverse comments are received, EPA will publish a timely withdrawal of the direct final rule in the Federal Register informing the public that the rule will not take effect. Please note that if EPA receives relevant adverse comment on an amendment, paragraph or section of this rule and if that provision may be severed from the remainder of the rule, EPA may adopt as final those provisions of the rule that are not the subject of a relevant adverse comment.

ADDRESSES: Written comments may be mailed to: Steve Body, State and Tribal Programs Unit, Office of Air Quality, EPA Region 10, 1200 Sixth Avenue, Seattle, WA 98101.

Copies of the documents relevant to this action are available for public inspection during normal business hours at the United States Environmental Protection Agency, Region 10, Office of Air Quality, 1200 Sixth Avenue, Seattle WA.

FOR FURTHER INFORMATION CONTACT: Steve Body, State and Tribal Programs Unit, Office of Air Quality, EPA Region 10, 1200 Sixth Avenue, Seattle WA., 98101, Telephone number: (206) 553-0782.

SUPPLEMENTARY INFORMATION:

Table of Contents

I. What is the purpose of this action?

II. What is the State's process to submit these materials to EPA?

III. EPA's Evaluation of the Redesignation Request and Maintenance Plan

(a) The Area Must have Attained the Carbon Monoxide NAAQS

(b) The Area Must Have Met All Applicable Requirements Under Section 110 and Part D

1. CAA Section 110 Requirements

2. Part D Requirements

A. Section 172(c)(3)—Emissions Inventory

B. Section 172(c)(5)—New Source Review (NSR)

C. Section 172(c)(7)—Compliance With CAA section 110(a)(2): Air Quality Monitoring Requirements

(c) The Area Must Have a Fully Approved SIP Under Section 110(k) of the CAA

(d) The Area Must Show the Improvement in Air Quality is Due to Permanent and Enforceable Emission Reductions.

(e) The Area Must Have A Fully Approved Maintenance Plan Under CAA Section 175A

1. Emissions Inventory—Attainment Year

2. Demonstration of maintenance

3. Monitoring Network and Verification of Continued Attainment

4. Contingency Plan

IV. Conformity

V. Final Action

VI. Administrative Requirements

I. What Is the Purpose of This Action?

EPA is redesignating the Northern Ada County “not classified” CO nonattainment area from nonattainment to attainment and approving the maintenance plan that will keep the area in attainment for the next 10 years.

EPA originally designated the Northern Ada County area as nonattainment for CO under the provisions of the 1977 Clean Air Act (CAA) Amendments (see 43 FR 8962, March 3, 1978). On November 15, 1990, the Clean Air Act Amendments of 1990 were enacted (Pub. L. 101-549, 104 Stat. 2399, codified at 42 U.S.C. 7401-7671q). Under section 107(d)(1)(C) of the CAA, the Northern Ada County area was designated nonattainment for CO by operation of law because the area had been designated as nonattainment before November 15, 1990. The Northern Ada County area is classified as an unclassified, or “not classified” CO nonattainment area because there were no violations of the CO standard in 1988 or 1989 prior to the 1990 Clean Air Act Amendments.

Nonattainment areas can be redesignated to attainment after the area has measured air quality data showing it has attained the NAAQS and when certain planning requirements are met. Section 107(d)(3)(E) of the CAA provides the requirements for redesignation. These are:

(i) The Administrator determines that the area has attained the national ambient air quality standard;

(ii) The Administrator has fully approved the applicable implementation plan for the area under section 110(k) of the Act;

(iii) The Administrator determines that the improvement in air quality is due to permanent and enforceable reductions in emissions resulting from implementation of the applicable implementation plan, applicable Federal air pollution control regulations, and other permanent and enforceable reductions;

(iv) The Administrator has fully approved a maintenance plan for the area as meeting the requirements of CAA section 175A; and,

(v) the State containing the area has met all requirements applicable to the area under section 110 and part D of the CAA.

Before an area can be redesignated to attainment, all applicable State Implementation Plan (SIP) elements must be fully approved.

II. What Is the State's Process To Submit These Materials to EPA?

The CAA requires States to follow certain procedural requirements for submitting SIP revisions to EPA. Section 110(a)(2) of the CAA requires that each SIP revision be adopted by the State after reasonable notice and public hearing. The State then submits the SIP revision to EPA for approval.

The Idaho Department of Environmental Quality (IDEQ), which has regulatory authority for sources of air pollution in the Northern Ada County CO nonattainment area, developed the CO maintenance plan. On October 23, 2001, IDEQ notified the public of the public hearing on the plan. On November 27, 2001 IDEQ held the public hearing at their offices in Boise, Idaho. On January 17, 2002, the State of Idaho adopted the Limited Maintenance Plan for the Northern Ada County Carbon Monoxide Not-Classified Nonattainment area. On January 17, 2002, the State submitted the proposed SIP to EPA. EPA has determined that the State met the requirements for reasonable notice and public hearing under section 110(a)(2) of the CAA.

III. EPA's Evaluation of the Redesignation Request and Maintenance Plan

EPA has reviewed the State's maintenance plan and redesignation request and is approving the maintenance plan and redesignating the area to attainment consistent with the requirements of CAA section 107(d)(3)(E). The following is a summary of EPA's evaluation and a description of how each requirement is met.

(a) The Area Must Have Attained the Carbon Monoxide NAAQS

Section 107(d)(3)(E)(i) requires that the Administrator determine that the area has attained the applicable NAAQS. The primary NAAQS for CO is 9 parts per million (ppm) (10 milligrams per cubic meter) for an 8-hour average, not to be exceeded more than once per year as determined at each monitoring site in the area. CO in the ambient air is measured by a reference method based on 40 CFR part 50, Appendix C. EPA considers an area as attaining the CO NAAQS when all of the CO monitors in the area have an exceedance rate of 1.0 or less each calendar year over a two-calendar year period. (See 40 CFR 50.8 and 40 CFR part 50 Appendix C.) EPA's interpretation of this requirement is that an area seeking redesignation to attainment must show attainment of the CO NAAQS for at least two consecutive calendar years (September 4, 1992, John Calcagni policy memorandum “Procedures for Processing Requests to Redesignate Areas to Attainment” (“Calcagni Memorandum”)). In addition, the area must continue to show attainment through the date that EPA promulgates redesignation to attainment.

Idaho's CO redesignation request for the Northern Ada County area is based on valid ambient air quality data. Ambient air quality monitoring data for calendar years 1987 through 2001 show a measured exceedance rate of the CO NAAQS of 1.0 or less per year at all monitoring sites. These data were collected and analyzed as required by EPA (see 40 CFR 50.8 and 40 CFR part 50, Appendix C) and have been stored in EPA's Aerometric Information and Retrieval System (AIRS). These data have met minimum quality assurance requirements and have been certified by the State as being valid before being included in AIRS. EPA's evaluation of the ambient air quality data finds that the Northern Ada County area has not violated the CO standard since 1987.

(b) The Area Must Have Met All Applicable Requirements Under Section 110 and Part D

Section 107(d)(3)(E)(v) requires that an area must meet all applicable requirements under section 110 and part D of the CAA. EPA interprets this requirement to mean the State must meet all requirements that applied to the area prior to, or at the time of, the submission of a complete redesignation request.

1. CAA Section 110 Requirements

On January 31, 1972, Idaho submitted the SIP to EPA. EPA approved the SIP on May 31, 1972. See 37 FR 10861. Although section 110 of the CAA was amended in 1990, most of the changes were not substantial. Thus, we have determined that the SIP revisions approved in 1972 along with subsequent revisions that we have previously approved, continue to satisfy the requirements of section 110(a)(2). EPA has analyzed the SIP elements that are part of this action and determined they comply with the requirements of section 110(a)(2).

2. Part D Requirements

The Northern Ada County area was originally designated as nonattainment for CO on March 3, 1978 (see 43 FR 8962). Idaho's CAA Part D initial plan for the Northern Ada County CO nonattainment area was submitted on January 31, 1980, and approved by EPA on October 23, 1980. Idaho subsequently revised the nonattainment area plan and submitted that revision to EPA in 1984 and it was approved by EPA on June 5, 1985. A final revision was made to the plan and submitted to EPA June 29, 1994 and approved by EPA on December 1, 1994. See 59 FR 61546.

Prior to the 1990 CAA Amendments, EPA had begun development of its post-1987 policy for carbon monoxide; however, EPA did not finalize the post-1987 policy for CO because the Clean Air Act (CAA) was amended on November 15, 1990. Under section 107(d)(1)(C) of the CAA, the Northern Ada County area was by operation of law designated nonattainment for CO because the area had been previously designated nonattainment before November 15, 1990. In the November 6, 1991, Federal Register, (56 FR 56694) the Northern Ada County area was classified as a “not classified” CO nonattainment area as the area had not violated the CO NAAQS in 1988 or 1989.

Before the Northern Ada County “not classified” CO nonattainment area may be redesignated to attainment, the State must have fulfilled the applicable requirements of part D. Under part D, an area's classification indicates the requirements to which it will be subject. Subpart 1 of part D sets forth the basic nonattainment requirements applicable to all nonattainment areas, whether classified or not classified.

The relevant Subpart 1 requirements are contained in sections 172(c) and 176 of the Act. The April 16, 1992, General Preamble for the Implementation of Title I of the Clean Air Act Amendments of 1990 (see 57 FR 13498) (“General Preamble of April 16, 1992”) provides our interpretation of the CAA requirements for not classified CO areas (see specifically 57 FR 13535). The General Preamble of April 16, 1992, reads, “Although it seems clear that the CO-specific requirements of subpart 3 of part D do not apply to CO “not classified” areas, the 1990 CAAA are silent as to how the requirements of subpart 1 of part D, which contains general SIP planning requirements for all designated nonattainment areas, should be interpreted for such CO areas. Nevertheless, because these areas are designated nonattainment, some aspects of subpart 1 necessarily apply.”

Under section 172(b), the applicable section 172(c) requirements, as determined by the Administrator, were due no later than three years after an area was designated as nonattainment under section 107(d) of the amended CAA (see 56 FR 56694, November 6, 1991). In the case of the Northern Ada County area, the due date was November 15, 1993. Since the Northern Ada County CO redesignation request and maintenance plan were not submitted by Idaho until January 17, 2002, the General Preamble of April 16, 1992, provides that the applicable requirements of CAA section 172 are: 172(c)(3) (emissions inventory), 172(c)(5)(new source review permitting program), and 172(c)(7)(the section 110(a)(2) air quality monitoring requirements). See 57 FR 13535, April 16, 1992.

EPA has determined that the Part D requirements for Reasonably Available Control Measures (RACM), an attainment demonstration, reasonable further progress (RFP), and contingency measures (CAA section 172(c)(9)) are not applicable to “not classified” CO nonattainment areas. See 57 FR 13535, April 16, 1992.

Section 176 of the CAA contains requirements related to conformity. Although federal regulations (see 40 CFR 51.396) require that states adopt transportation conformity provisions in their SIPs for areas designated nonattainment or that are subject to a federally approved maintenance plan, EPA has determined that a transportation conformity SIP is not an applicable requirement for purposes of evaluating a redesignation request under section 107(d) of the CAA. This decision is reflected in our 1996 approval of the Boston carbon monoxide redesignation. (See 61 FR 2918, January 30, 1996.)

The remaining applicable requirements of CAA section 172 are discussed below.

A. Section 172(c)(3) Emissions Inventory

Section 172(c)(3) of the CAA requires a comprehensive, accurate, current inventory of all actual emissions from all sources in the Northern Ada County CO nonattainment area. The emission inventory requirement for “not classified” CO nonattainment areas is detailed in the General Preamble of April 16, 1992. EPA has determined that an emissions inventory is required by CAA section 172(c)(3) regardless of air quality levels. An emissions inventory must be included as a revision to the SIP and was due three years from the time of the area's designation. For “not classified” CO areas, this date is November 15, 1993. To address the section 172(c)(3) requirement for a “current” inventory, EPA interpreted “current” to mean calendar year 1990 (see 57 FR 13502, April 16, 1992).

Idaho included in the January 17, 2002, proposed SIP revision, a Northern Ada County CO emission inventory for calendar year 1995. This year corresponds to the year used in calculating the design value contained in the SIP. The inventory has been reviewed by EPA and a copy of that review is in the docket to this action. EPA believes the inventory is comprehensive, accurate and current and meets the requirements of section 172(c)(3) of the CAA. It represents emissions that contributed to the design value in the plan. The design value shows that the area attains the CO standard. Therefore the emissions are at a level that would maintain the standard.

The requirements of section 172(c)(3) are met.

B. Section 172(c)(5) New Source Review (NSR)

The Clean Air Act Amendments of 1990 included revisions to the new source review (NSR) program requirements of the construction and operation of new and modified major stationary sources located in nonattainment areas. The Act requires states to amend their SIPs to reflect these revisions, but it did not require submittal of this element along with the other SIP elements. The Act established June 30, 1992 as the submittal date for the revised NSR programs. See Section 189(a) of the Act.

In the General Preamble of April 16, 1992, EPA issued guidance for states to follow in the development of revised programs to meet the requirements of the 1990 Amendments. EPA guidance calls for states to implement their existing NSR programs during the interval preceding our formal approval of their revised NSR programs.

The State of Idaho submitted to EPA on September 4, 1992, rules that met the requirements of the 1990 Clean Air Act Amendments and EPA approved those rules on July 23, 1993. See 58 FR 39445.

The requirements of section 172(c)(5) are met.

C. Section 172(c)(7) Compliance With CAA Section 110(a)(2): Air Quality Monitoring Requirements

According to the General Preamble of April 16, 1992, “not classified” CO nonattainment areas should meet the “applicable” air quality monitoring requirements of section 110(a)(2) of the CAA. The State of Idaho has operated a CO monitor in the Northern Ada County area since the early 1970's. In this proposed SIP revision, the State of Idaho further commits to operating the CO monitoring network into the future.

The requirements of section 172(c)(7) are met.

(c) The Area Must Have a Fully Approved SIP Under Section 110(k) of the CAA

Section 107(d)(3)(E)(ii) of the CAA provides that for an area to be redesignated to attainment, it must be determined that the Administrator has fully approved the applicable implementation plan for the area under section 110(k).

Based on the approval into the SIP of provisions under the pre-1990 CAA, our prior approval of a SIP revision required under the 1990 amendments to the CAA, and our approval of the State's commitment to maintain an adequate monitoring network, EPA has determined that, as of the date of this Federal Register action, Idaho has a fully approved CO SIP under section 110(k) for the Northern Ada County CO nonattainment area.

(d) The Area Must Show the Improvement in Air Quality Is Due to Permanent and Enforceable Emission Reductions

Section 107(d)(3)(E)(iii) of the CAA provides that for an area to be redesignated to attainment, the Administrator must determine that the improvement in air quality is due to permanent and enforceable reductions in emissions resulting from implementation of the applicable implementation plan, implementation of applicable Federal air pollutant control regulations, and other permanent and enforceable reductions.

The CO emissions reductions for the Northern Ada County area were achieved through a number of control measures. The primary emission reductions are the result of the Federal Motor Vehicle Emission Standards and fleet turnover. These reductions will continue into the maintenance period for the Northern Ada County area. There are several additional control measures including transportation control measures (transit, rideshare and I&M), stationary source controls through the NSR program, and several voluntary measures. Lastly, there are woodstove curtailment programs designed for particulate matter control during episodes of poor air quality that will provide reduction in CO emissions.

EPA has evaluated the various State and Federal control measures and the 1995 emission inventory, and we conclude that the improvement in air quality in the Northern Ada County nonattainment area has resulted from emission reductions that are permanent and enforceable.

(e) The Area Must Have a Fully Approved Maintenance Plan Under CAA Section 175A

Section 107(d)(3)(E)(iv) of the CAA provides that for an area to be redesignated to attainment, the Administrator must have fully approved a maintenance plan for the area meeting the requirements of section 175A of the CAA.

Section 175A of the CAA sets forth the elements of a maintenance plan for areas seeking redesignation from nonattainment to attainment. For areas such as Northern Ada County that are utilizing EPA's limited maintenance plan approach, as detailed in the EPA guidance memorandum, “Limited Maintenance Plan Option for Nonclassifiable CO Nonattainment Areas” from Joseph Paisie, Group Leader, Integrated Policy and Strategies Group, Office of Air Quality and Planning Standards, dated October 6, 1995 (“Paisie Memorandum”), the maintenance plan demonstration requirement is considered to be satisfied for “not classified” areas if the monitoring data show the design value is at or below 7.65 ppm, or 85 percent of the level of the 8-hour CO NAAQS. The design value must be based on the 8 consecutive quarters of data. There is no requirement to project emissions or air quality over the maintenance period. EPA believes if the area begins the maintenance period at, or below, 85 percent of the level of the CO 8 hour NAAQS, the applicability of PSD requirements, the control measures already in the SIP, and Federal measures, should provide adequate assurance of maintenance over the initial 10-year maintenance period. In addition, the design value for the area must continue to be at or below 7.65 ppm until the time of final EPA action on the redesignation. The method for calculating the design value is presented in the June 18, 1990, EPA guidance memorandum entitled “Ozone and Carbon Monoxide Design Value Calculations”, from William G. Laxton, Director of the OAQPS Technical Support Division, to Regional Air Directors.

Eight years after redesignation to attainment, the State must submit a revised maintenance plan that demonstrates continued maintenance of the CO NAAQS for an additional 10 years following the initial ten-year maintenance period. To address the possibility of future NAAQS violations, the maintenance plan must contain contingency measures, with a schedule for adoption and implementation, that are adequate to assure prompt correction of a violation.

The analysis of the pertinent maintenance plan requirements follows:

1. Emissions Inventory—Attainment Year

The plan must contain an attainment year emissions inventory to identify the level of emissions in the area which is sufficient to attain the CO NAAQS. This inventory is to be consistent with EPA's most recent guidance on emissions inventories for nonattainment areas available at the time ¹ and should represent emissions during the time period associated with the monitoring data showing attainment. The Northern Ada County CO maintenance plan contains an accurate, current, and comprehensive emission inventory for calendar year 1995.

¹ The October 6, 1995, limited maintenance plan guidance memorandum states that current guidance on the preparation of emissions inventories for CO areas is contained in the following documents: “Procedures for the Preparation of Emission Inventories for Carbon Monoxide and Precursors of Ozone: Volume I” (EPA-450/4-91-016), and “Procedures for Emission Inventory Preparation: Volume IV, Mobile Sources” (EPA-450/4-81-026d revised).

2. Demonstration of Maintenance

As described in the Paisie Memorandum, the maintenance plan demonstration requirement is considered to be satisfied for “not classified” CO areas if the design value for the area is equal to, or less than 7.65 ppm. The CO design value for 1995 for the Northern Ada County area is 7.4 ppm, and the design value for 1996 is 4.9 ppm both of which are below the limited maintenance plan requirement of 7.65 ppm. Therefore, the Northern Ada County area has adequately demonstrated maintenance.

3. Monitoring Network and Verification of Continued Attainment

Continued ambient monitoring of an area is required over the maintenance period. Section VI(C) of the Northern Ada County CO maintenance plan provides for continued ambient monitoring in the area.

4. Contingency Plan

The Northern Ada County CO Limited Maintenance plan contains a contingency plan that would institute an oxygenated fuels program or other equivalent transportation control measure. The contingency plan is triggered either when an exceedance of the level of the 8 hour standard is recorded and any monitor, or when a monitor records non-overlapping 8 hour CO concentrations of 8 parts per million (ppm) on 4 or more days within a single winter season within the nonattainment area. EPA finds that the contingency measures provided in the maintenance plan are adequate to ensure prompt correction of a violation.

IV. Conformity

A. How Is Transportation Conformity Demonstrated to a Limited Maintenance Plan?

Section 176(c) of the Act defines transportation conformity as conformity to the SIP's purpose of eliminating or reducing the severity and number of violations of the NAAQS and achieving expeditious attainment of such standards. Also, the Act states that no Federal transportation activity will: (1) Cause or contribute to any new violation of any standard in any area, (2) increase the frequency or severity of any existing violation of any standard in any area, or (3) delay timely attainment of any standard or any required interim emission reductions or other milestones in any area.

The Federal Transportation Conformity Rule, 40 CFR parts 51 and 93, applies to all nonattainment and maintenance areas. As prescribed by the conformity rule, once an area has an applicable state implementation plan with motor vehicle emissions budgets, the expected emissions from planned transportation activities must be consistent with (“conform to”) such established budgets for that area. In the case of the Northern Ada County CO limited maintenance plan, however, the emissions budgets may be treated as essentially not constraining for the length of the initial maintenance period because there is no reason to expect that Northern Ada County will experience so much growth in that period that a violation of the CO air quality standard would result. In other words, emissions from on-road transportation sources need not be capped for the maintenance period because it is unreasonable to believe that emissions from such sources would increase to a level that would threaten the air quality in this area for the duration of this maintenance period.

Therefore, for the Northern Ada County CO maintenance area all federally funded and approved transportation actions that require conformity determinations under the transportation conformity rule can already be considered to satisfy the regional emissions analysis and “budget test” requirements in 40 CFR 93.118 of the rule. However, since Northern Ada County is still a maintenance area, transportation conformity determinations are still required for transportation plans, programs, and projects. Specifically, for such determinations, transportation plans, TIPs, and projects must still demonstrate that they are fiscally constrained (40 CFR part 108) and must meet the criteria for consultation and TCM implementation in the conformity rule (40 CFR 93.112 and 40 CFR 93.113). In addition, projects in Northern Ada County will still have to meet the criteria for CO hot spot analyses (40 CFR 93.116 and 40 CFR 93.123) that must incorporate the latest planning assumptions and models that are available.

B. What Is the Adequacy Status of This Limited Maintenance Plan?

On March 2, 1999, the United States Court of Appeals for the District of Columbia Circuit issued a decision on EPA's third set of conformity revisions in response to a case brought by the Environmental Defense Fund. This decision stated that a conformity determination cannot be made using a submitted motor vehicle emission budget until EPA makes a positive determination that the submitted budget is adequate. In response to the court's decision, EPA issued guidance on our adequacy process on May 14, 1999.

In accordance with our guidance and the court decision, the Northern Ada County limited maintenance plan was posted for adequacy review of the motor vehicle emissions budget on March 20, 2002, on EPA's conformity Web site: http://www.epa.gov/otaq/traq, (once there, click on the “Conformity” button, then look for “Adequacy Review of SIP Submissions for Conformity”). As a general rule, however, limited maintenance plans do not include budgets. Instead, the limited maintenance plan for Northern Ada County concludes that the area will continue to maintain the CO air quality standard regardless of the quantity of emissions from the on-road transportation sector; essentially, the budget is unlimited. Therefore, EPA's adequacy review of the Northern Ada County limited maintenance plan primarily focused on whether the area qualifies for the applicable limited maintenance policy for CO. From our review, EPA has concluded that Northern Ada County does meet the criteria for a limited maintenance plan, and therefore, is able to find this limited maintenance plan adequate for conformity purposes.

C. Are the Requirements for General Conformity Altered Under This Limited Maintenance Plan?

No. Although the requirements to perform a regional emissions analysis and budget test under the transportation conformity rule are altered under a limited maintenance plan, the requirements for general conformity are not changed. Upon today's approval of the Northern Ada County limited maintenance plan, 40 CFR part 93, subpart B General Conformity Rules for federal actions still apply.

V. Final Action

EPA is approving the Northern Ada County CO maintenance plan and redesignating the area to attainment.

VI. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 6, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 27, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Intergovernmental relations, Reporting and recordkeeping requirements.

40 CFR Part 81

Air pollution control, National parks, Wilderness areas.

Dated: October 10, 2002.
Ronald A. Kreizenbeck,
Acting Regional Administrator, Region 10.

Parts 52 and 81, chapter I, title 40 of the Code of Federal Regulations are amended as follows:

PART 52—[AMENDED]

1. The authority citation for part 52 continues to read as follows:

Authority: 42 U.S.C. 7401 et seq.

Subpart N—Idaho

2. Section 52.672 is added to Subpart N to read as follows:

§ 52.672 Approval of plans.

(a) Carbon Monoxide. (1) EPA approves as a revision to the Idaho State Implementation Plan, the Limited Maintenance Plan for the Northern Ada County Carbon Monoxide Not-Classified Nonattainment Area, submitted by the State on January 17, 2002.

(2) [Reserved].

(b) Lead. [Reserved]

(c) Nitrogen Dioxide. [Reserved]

(d) Ozone. [Reserved]

(e) Particulate Matter. [Reserved]

(f) Sulfur Dioxide. [Reserved]

PART 81—[AMENDED]

1. The authority citation for part 81 continues to read as follows:

Authority: 42 U.S.C. 7401 et seq.

2. In § 81.313, the table entitled “Idaho—Carbon Monoxide” is amended by revising the entry for “Boise—Northern Ada County” to read as follows:

§ 81.313 Idaho.

* * * * *

Idaho—Carbon Monoxide
Designated Area | Designation: Date ¹ | Designation: Type | Classification: Date ¹ | Classification: Type
* * * * * * *
Boise-Northern Ada County Area:
The Boise-Ada County nonattainment area is described as follows: Beginning at a point in the center of the channel of the Boise River which the section line between sections fifteen (15) and sixteen (16), Township three (3) north, range four (4) east crosses said river; thence down the center of the channel of the Boise River to a point opposite the mouth of Mores Creek. Thence in a straight line north forty four (44) degrees and 36 minutes west until the said line intersects the north line of Township five (5) north (12 Ter. Ses. 67); thence west to the northwest corner of Township five (5) north, range one (1) west; thence southerly to the northwest corner of Township three (3) north, range one (1) west; thence east to the northwest corner of Section four (4) township three (3) north, range one (1) west; thence south to the southeast corner of section thirty-two (32), township two (2) north, range one (1) west; thence, west to the northwest corner township one (1) north, range one (1) west; thence southerly to the southwest corner of township one (1) north, range one (1) west; thence east to the southwest corner of section thirty-three (33), township one (1) north, range four (4) east; thence in a northerly direction along the north and south centerline of township one (1), two (2) and three (3) north, range four (4) east, Boise Meridian, to a point in the center of the channel of the Boise River where the section line between section fifteen (15) and sixteen (16) township three (3) north, range four (4) east, Boise Meridian crosses said Boise River, the point of beginning | 12/27/02 | Attainment.
* * * * * * *
¹ This date is November 15, 1990, unless otherwise noted.

* * * * *

[FR Doc. 02-27237 Filed 10-25-02; 8:45 am]

BILLING CODE 6560-50-P